FEDERAL COMMUNICATIONS COMMISSION

[DA 21-593; FR ID 33845]

Alert Reporting System Available for Filing of State Emergency Alert System Plans

AGENCY: Federal Communications Commission.

ACTION: Notice.

SUMMARY: The Federal Communications Commission (Commission or FCC) announces that its Alert Reporting System (ARS) is now open for the filing of State Emergency Alert System (EAS) Plans.

FOR FURTHER INFORMATION CONTACT: David Munson, Attorney Advisor, Public Safety and Homeland Security Bureau, at (202) 418-2921, or by email at David.Munson@fcc.gov.

SUPPLEMENTARY INFORMATION: This is a summary of the Public Notice (DA 21-593), released May 25, 2021, announcing that the ARS, adopted in the State EAS Plan Order, PS Docket No. 15-94, FCC 18-39, adopted on March 28, 2018, released on April 10, 2018, and published at 83 FR 37750 (August 2, 2018), is now fully operational and available to receive State EAS Plan filings.

The EAS is a national public warning system used by state, local, federal, Tribal and territorial alert originators to deliver emergency alerts to the public. The ARS is an online filing system for the filing of State EAS Plans by State Emergency Communications Committees (SECCs). State EAS Plans must describe state and local EAS operations and contain guidelines that must be followed to activate the EAS.

In the State EAS Plan Order, in addition to adopting the ARS, the Commission amended sections 11.18 and 11.21, 47 CFR 11.18 and 11.21, respectively, of its rules governing EAS designations and State EAS Plan content, and stated that both the electronic submission of State EAS Plans by SECCs using the ARS, and compliance with the amendments adopted to sections 11.18 and 11.21, would be required “within one year of publication in the Federal Register of a Public Notice announcing: (i) Office of Management and Budget (OMB) approval of ARS information collection requirements or (ii) the availability of the ARS to receive such information, whichever is later.”

On July 23, 2019, notice of OMB's approval of the information collection requirements associated with ARS was published in the Federal Register, Federal Communications Commission, Emergency Alert System; Wireless Emergency Alerts, 84 FR 35334 (July 23, 2019). Accordingly, publication of this Notice in the Federal Register of ARS's availability to receive State EAS Plan filings triggers the one-year deadline for (i) electronic submission of State EAS Plans via ARS, and compliance with the amendments to Sections 11.18 and 11.21 adopted in the State EAS Plan Order. Accordingly, electronic submission of State EAS Plans using the ARS, and compliance with the EAS designations at 47 CFR 11.18 and the State EAS Plan content rules at 47 CFR 11.21, will be required on or by July 1, 2022. SECCs may access the ARS at https://www.fcc.gov/licensing-databases/fcc-user-login.

For further information about ARS and/or the filing process, please contact David Munson at (202) 418-2921 or David.Munson@fcc.gov.

Federal Communications Commission.
Lisa Fowlkes,
Chief, Public Safety and Homeland Security Bureau.

[FR Doc. 2021-14049 Filed 6-30-21; 8:45 am]

BILLING CODE 6712-01-P